DEPARTMENT OF COMMERCE

National Oceanic and Atmospheric Administration

[RTID 0648-XR098]

Marine Mammals; File No. 23283

AGENCY: National Marine Fisheries Service (NMFS), National Oceanic and Atmospheric Administration (NOAA), Commerce.

ACTION: Notice; receipt of application.

SUMMARY: Notice is hereby given that NMFS' Marine Mammal Laboratory, 7600 Sand Point Way NE, Building 4, Seattle, WA 98115 (Responsible Party: John Bengtson, Ph.D.), has applied in due form for a permit to conduct research on northern fur seals (Callorhinus ursinus).

DATES: Written, telefaxed, or email comments must be received on or before March 30, 2020.

ADDRESSES: The application and related documents are available for review by selecting “Records Open for Public Comment” from the “Features” box on the Applications and Permits for Protected Species (APPS) home page, https://apps.nmfs.noaa.gov, and then selecting File No. 23283 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The applicant requests a research permit to investigate population status and trends, demographics, health and disease, and foraging ecology of northern fur seals. Up to 38,491 northern fur seals may be taken annually from the California stock at San Miguel Island and the Farallon Islands in California, including 1,580 by capture and handle, 36,900 by incidental disturbance and 11 by unintentional mortality. Up to 375,431 northern fur seals may be taken annually from the Eastern Pacific stock at the Pribilof Islands and Bogoslof Island in Alaska, including 18,200 by capture and handle, 357,220 by incidental disturbance, and 11 by unintentional mortality. Unlimited numbers of samples may be salvaged from dead animals, received, and/or exported for analysis. Take activities involve ground survey, aerial survey, observation, photograph/video, capture/handling, and collection of scat/spew. Procedures to be performed on handled animals include: Administration of drugs and anesthesia, stomach lavage, external and internal instrumentation, marking, measuring, restraint, biological sampling and swabs, stable isotopes and serial blood samples, ultrasound, and weighing. Up to 150 Western Steller sea lions (Eumetopias jubatus) and 200 Aleutian Islands and Pribilof Island stock harbor seals (Phoca vitulina) may be incidentally disturbed annually in Alaska. 36,500 California sea lions (Zalophus californianus) may be incidentally disturbed annually in California. The requested duration of this permit is 5 years from June 1, 2020 to May 31, 2025.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 24, 2020.
Julia Marie Harrison,
Chief, Permits and Conservation Division, Office of Protected Resources, National Marine Fisheries Service.

[FR Doc. 2020-04080 Filed 2-27-20; 8:45 am]

BILLING CODE 3510-22-P